DEPARTMENT OF HEALTH AND HUMAN SERVICES

Health Resources and Services Administration

Poison Control Stabilization and Enhancement Grant Program

AGENCY: Health Resources and Services Administration, HHS.

ACTION: Notice of availability of funds.

SUMMARY: The Health Resources and Services Administration (HRSA) announces that up to $15 million in fiscal year (FY) 2001 funds is anticipated for up to 80 grants to regional poison control centers (PCCs) for the implementation of project grants to enhance and improve poison education, prevention and treatment services. Grants will be made in the following categories: financial stabilization grants to certified PCCs across the Nation; certification grants to non-certified PCCs; incentive grants to encourage collaboration; and system development and service access grants for rural and geographically isolated areas to allow time to obtain certified poison control services. All awards will be made under the program authority of the Poison Center Enhancement and Awareness Act (Pub. L. 106-174). This Poison Control Stabilization and Enhancement Grant Program (CFDA #93.253) will be administered by the Maternal and Child Health Bureau (MCHB), HRSA. Projects in the following four categories will be approved for up to a 3-year period, with awards in subsequent years contingent upon the availability of funds: (1) Stabilization grant awards will range from approximately $60,000 to $1,600,000 annually, depending on the size of the population served, and will be awarded for up to three years; (2) Certification grants, also population based, will range from $50,000 to $200,000 annually and will be awarded for up to three years; (3) Incentive grants will be awarded at $125,000 annually for up to two years; and (4) Service Access grant awards will be $50,000 for one year only. Funding for Poison Control Stabilization and Enhancement Grants in FY 2001 is made available under the FY 2001 Labor-HHS-Education Appropriations Act (Pub. L. 106-554).

DATES: The deadline for receipt of applications is May 8, 2001. Applications will be considered “on time” if they are either received on or before the deadline date or postmarked on or before the deadline date. The projected award date is September 1, 2001.

ADDRESSES: To receive a complete application kit, applicants may telephone the HRSA Grants Application Center at 1-877-477-2123 (1-877-HRSA-123) beginning March 12, 2001, or register on-line at: http://www.hrsa.dhhs.gov/, or by accessing http://www.hrsa.gov/g_order3.htm directly. This program uses the standard Form PHS 5161-1 (rev. 7/00) for applications (approved under OMB No. 0920-0428). Applicants must use Catalog of Federal Domestic Assistance (CFDA) number 93.253 when requesting application materials. The CFDA is a Government wide compendium of enumerated Federal programs, projects, services, and activities which provide assistance. All applications should be mailed or delivered to: Grants Management Officer, MCHB; HRSA Grants Application Center, 1815 N. Fort Meyer Drive, Suite 300, Arlington, Virginia 22209; telephone: 1-877-477-2123; E-mail: hrsagac @ hrsa.gov.

This application guidance and the required forms for the Poison Control Center Stabilization and Enhancement Grant Program may be downloaded in either WordPerfect 6.1 or Adobe Acrobat format (.pdf) from the MCHB Home Page at http://www.mchb.hrsa.gov/. Please contact Joni Johns, at 301/443-2088, or jjohns@hrsa.gov/, if you need technical assistance in accessing the MCHB Home Page via the Internet.

This announcement will appear in the Federal Register and on the HRSA Home Page at: http://www.hrsa.dhhs.gov/. Federal Register notices are found on the World Wide Web by following instructions at: http://www.access.gpo.gov/su_docs/aces/aces140.html.

FOR FURTHER INFORMATION CONTACT: Carol A. Delany, 301/443-5372, email: cdelany@hrsa.gov/ (for questions specific to project activities of the program, program objectives); Theda Duvall, 301/443-1440, email tduvall@hrsa.gov/ (for grants policy, budgetary, and business questions).

SUPPLEMENTARY INFORMATION:

Program Background and Objectives

Of an estimated four million poisonings in the United States each year, more than two million are reported to PCCs. More than 90 percent of these poisonings occur in the home and 60 percent of the poisoning victims are children under age six. United States PCCs provide easy access, free of charge, to persons seeking help, including a telephone hotline staffed by toxicology professionals and immediate information and treatment advice regarding suspected toxic exposures to drugs, chemicals, plants, and other substances.

The ready accessibility of high quality poison control services has been proven to decrease the severity of illness, prevent deaths and significantly reduce health care costs. Despite the life-saving, cost-effective contributions of poison control centers to the health and well-being of the U.S. population, chronic underfunding has reduced the number of centers significantly in the past three decades. At the present time, funding instability continues to threaten the existence of the poison control centers which serve this country. Unstable funding has also had an adverse impact on the capacity of the PCCs to enhance and improve services and develop a comprehensive National system.

Public Law 106-174, the “Poison Control Center Enhancement and Awareness Act,” was enacted on February 25, 2000, to respond to this crisis. It authorizes funding to stabilize centers financially and encourage the enhancement and improvement of poison education, prevention and treatment services. It contains provisions designed to increase the number of Americans with access to quality poison control services and decrease the use of more expensive emergency medical services, by: establishing a national toll-free telephone number with related nationwide media and advertising campaigns to ensure access to PCCs for all Americans; educating the public and health care providers about poison prevention and the availability of poison control resources in local communities; and establishing a grant program to improve the financial stability of PCCs and strengthen poisoning prevention and treatment programs and services.

Public Law 106-554 includes an appropriation of $20 million to fund activities specified under Public Law 106-174. This Notice addresses the establishment of the grant program for poison centers authorized under Section 6(a) of Public Law 106-174 . The law prohibits use of these grant funds for the supplantation of other Federal, State, and local funds and requires maintenance of effort by the poison control centers.

The MCHB has sought input from interested parties as it develops its plan for a realistic and effective response to the crisis in the Nation's PCCs. It has worked in consultation with the Centers for Disease Control and Prevention and has met with key stakeholders over the last year.

Authorization: Poison Control Center Enhancement and Awareness Act (Pub. L. 106-174).

Purpose

The purpose of this grant program is to stabilize certified poison control centers and to encourage the certification of non-certified centers in order to improve access to poison education, prevention and treatment services. Grants awarded will be used by PCCs for the purposes of achieving financial stabilization, assisting non-certified centers to achieve certification, promoting systems development and collaboration, and assuring the orderly transition or development of poison services by a certified center for rural or geographically isolated areas.

Eligibility

Eligibility for funding under this grant program is limited to certified Poison Control Centers (PCCs). Centers must be certified by the American Association of Poison Control Centers or a State with equivalent standards, as determined by the Secretary. A waiver of certification may be granted by the Secretary to non-certified or newly-established PCCs that apply for a grant if the PCC can reasonably demonstrate that it will obtain certification within a three-year period.

Funding Categories

(1) Financial Stabilization Grants: It is anticipated that 45-50 grants, ranging from $60,000 to $1,600,000, will be awarded in this category to enable certified PCCs or Poison Control Systems to achieve financial stability, strengthen and maintain poison prevention programs and services, and strengthen the centers as sources of treatment information and recommendations for poisonings.

(2) Certification Grants: It is anticipated that 10-15 grants, ranging from $50,000—$200,000, will be awarded, in order to improve access to poison prevention services, to non-certified centers or systems which demonstrate through progress after two years that they can attain certification within a three-year period.

(3) Incentive Grants: It is anticipated that 8-10 competitive grants, at $125,000, will be awarded to encourage collaboration and systems development between centers to strengthen poison prevention and treatment alternatives. Applicants may be certified or uncertified PCCs applying to the Secretary for a waiver. Centers may apply in this category in addition to applying for a Financial Stabilization or Certification grant. This category carries a matching requirement of one non-Federal dollar for every two Federal dollars contributed. Specific guidance regarding collaboration between PCCs and the matching requirement is supplied in the application materials for this program.

(4) Service Access Grants: It is anticipated that 2-4 grants will be awarded, at $50,000 each, for one year only, to certified centers acting as co-applicants with uncertified PCC's or organizations responsible for the provision of poison control services in rural or geographically isolated States, for the purpose of obtaining access to certified poison control services.

Funding Level/Project Period

Projects will be approved for up to a three-year period, varying by category. The total funding level for these grants is approximately $15 million for the one-year budget period from August 1, 2001 through July 31. The project period consists of one or more budget periods, each generally of one year duration.

Funding for this grant program beyond FY 2001 is contingent upon the availability of funds. The initial budget period is expected to be 12 months, with subsequent budget periods being 12 months. Continuation of any project from one budget period to the next is subject to satisfactory performance, availability of funds, and program priorities.

Review Criteria

In general, applications for this grant program will be reviewed on the basis of the extent to which they address the following criteria:

—Completeness and clarity of the project narrative;

—Practicability and achievability of the plan to use requested funds;

—Clarity and appropriateness of the budget and coordinated budget narrative;

—Strength and adequacy of current and/or proposed staff;

—Evidence from the responsible State agency that the applicant is designated to operate in the State; and

—Clarity and strength of letters of support or collaboration.

Review criteria vary slightly from one grant category to another. Further specific guidance regarding review criteria is supplied in the application materials for this program.

Public Health System Reporting Requirements

This program is subject to the Public Health System Reporting Requirements (approved under OMB No. 0937-0195). Under these requirements, community-based nongovernmental applicants must prepare and submit a Public Health System Impact Statement (PHSIS). The PHSIS is intended to provide information to State and local health officials to keep them apprized of proposed health services grant applications submitted by community-based nongovernmental organizations within their jurisdictions. Community-based non-governmental applicants are required to submit the following information to the head of the appropriate State and local health agencies in the area(s) to be impacted no later than the Federal application receipt due date:

(a) A copy of the face page of the application (SF 424).

(b) A summary of the project (PHSIS), not to exceed one page, which provides:

(1) A description of the population to be served.

(2) A summary of the services to be provided.

(3) A description of the coordination planned with the appropriate State or local health agencies.

The project abstract may be used in lieu of the one-page PHSIS, if the applicant is required to submit a PHSIS.

Executive Order 12372

This program has been determined to be a program which is subject to the provisions of Executive Order 12372 concerning intergovernmental review of Federal programs by appropriate health planning agencies, as implemented by 45 CFR Part 100. Executive Order 12372 allows States the option of setting up a system for reviewing applications from within their States for assistance under certain Federal programs. The application packages to be made available under this notice will contain a listing of States which have chosen to set up such a review system and will provide a single point of contact (SPOC) in the States for review. Applicants (other than federally-recognized Indian tribal governments) should contact their State SPOCs as early as possible to alert them to the prospective applications and receive any necessary instructions on the State process. For proposed projects serving more than one State, the applicant is advised to contact the SPOC of each affected State. The due date for State process recommendations is 60 days after the application deadline for new and competing awards. The granting agency does not guarantee to “accommodate or explain” for State process recommendations it receives after that date. (See Part 148, Intergovernmental Review of PHS Programs under Executive Order 12372 and 45 CFR Part 100 for a description of the review process and requirements).

Dated: February 28, 2001.
Claude Earl Fox,
Administrator.

[FR Doc. 01-5500 Filed 3-5-01; 8:45 am]

BILLING CODE 4160-15-U